DEPARTMENT OF EDUCATION

Federal Perkins Loan, Federal Work-Study, and Federal Supplemental Educational Opportunity Grant Programs; 2016-2017 Award Year Deadline Dates

AGENCY: Federal Student Aid, Department of Education.

ACTION: Notice.

Catalog of Federal Domestic Assistance (CFDA) Numbers: 84.038; 84.033; and 84.007.

SUMMARY: The Secretary announces the 2016-2017 award year deadline dates for the submission of requests and documents from postsecondary institutions for the Federal Perkins Loan, Federal Work-Study (FWS), and Federal Supplemental Educational Opportunity Grant (FSEOG) programs (collectively, the “campus-based programs”).

SUPPLEMENTARY INFORMATION: The Federal Perkins Loan program encourages institutions to make low-interest, long-term loans to needy undergraduate and graduate students to help pay for their education.

The FWS program encourages the part-time employment of needy undergraduate and graduate students to help pay for their education and to involve the students in community service activities.

The FSEOG program encourages institutions to provide grants to exceptionally needy undergraduate students to help pay for their education.

The Federal Perkins Loan, FWS, and FSEOG programs are authorized by parts E and C, and part A, subpart 3, respectively, of title IV of the Higher Education Act of 1965, as amended.

Throughout the year, in its “Electronic Announcements,” the Department will continue to provide additional information for the individual deadline dates listed in the table under the DEADLINE DATES section of this notice. You will also find the information on the Information for Financial Aid Professionals (IFAP) Web site at: www.ifap.ed.gov.

DEADLINE DATES: The following table provides the 2016-2017 award year deadline dates for the submission of applications, reports, waiver requests, and other documents for the campus-based programs. Institutions must meet the established deadline dates to ensure consideration for funding or waiver, as appropriate.

2016-2017 Award Year Deadline Dates
What does an institution submit? | How is it submitted? | What is the deadline for submission?
1. The Campus-Based Reallocation Form designated for the return of 2015-2016 funds and the request for supplemental FWS funds for the 2016-2017 award year | The Reallocation Form is located on the “Setup” tab of the Fiscal Operations Report and Application to Participate (FISAP) at the eCampus-Based Web site: https://cbfisap.ed.gov. The Reallocation Form must be submitted electronically through the eCampus-Based Web site | Monday, August 15, 2016.
2. The 2017-2018 FISAP (reporting 2015-2016 expenditure data and requesting funds for 2017-2018) | The FISAP is located at the eCampus-Based Web site: https://cbfisap.ed.gov. The FISAP must be submitted electronically through the eCampus-Based Web site. The FISAP's signature page must be signed by the institution's Chief Executive Officer (CEO), either electronically or on a printed copy with an original signature. If mailing the FISAP signature page, it must be mailed to: FISAP Administrator, 8405 Greensboro Drive, Suite 1020, McLean, VA 22102 | Friday September 30, 2016.
3. The Work Colleges Program Report of 2015-2016 award year expenditures | The Work Colleges Program Report is located on the “Setup” tab of the FISAP at the eCampus-Based Web site: https://cbfisap.ed.gov. The report must be submitted electronically through the eCampus-Based Web site. It must be signed by the institution's Chief Executive Officer (CEO), either electronically or on a printed copy with an original signature. If mailing the Work Colleges Program Report signature page, it must be submitted by one of the following methods: | Friday September 30, 2016.
| Hand deliver to: U.S. Department of Education, Federal Student Aid, Grants & Campus-Based Division, 830 First Street NE., Room 64F2, ATTN: Work Colleges Coordinator, Washington, DC 20002, or
| Mail to: The address listed above for hand delivery. However, please use ZIP Code 20202-5453
4. The 2015-2016 Financial Assistance for Students with Intellectual Disabilities Expenditure Report | The Financial Assistance for Students with Intellectual Disabilities Expenditure Report is located on the “Setup” tab of the FISAP at the eCampus-Based Web site: https://cbfisap.ed.gov. The report must be submitted electronically through the eCampus-Based Web site. It must be signed by the institution's Chief Executive Officer (CEO), either electronically or on a printed copy with an original signature. If mailing the Financial Assistance for Students with Intellectual Disabilities Expenditure Report signature page, it must be submitted by one of the following methods: | Friday September 30, 2016.
| Hand deliver to: U.S. Department of Education, Federal Student Aid, Grants & Campus-Based Division, CTP Program, 830 First Street NE., Room 64F2, Washington, DC 20002, or
| Mail to: The address listed above for hand delivery. However, please use ZIP Code 20202-5453.
5. The 2017-2018 FISAP Edit Corrections and Perkins Cash on Hand Update as of October 31, 2016 | The FISAP is located at the eCampus-Based Web site: https://cbfisap.ed.gov. The FISAP Edit Corrections and Perkins Cash on Hand Update must be submitted electronically through the eCampus-Based Web site | Thursday, December 15, 2016.
6. Request for a waiver of the 2017-2018 award year penalty for the underuse of 2015-2016 award year funds | The request for a waiver is located in Part II, Section C of the FISAP at the eCampus-Based Web site: https://cbfisap.ed.gov. The request and justification must be submitted electronically through the eCampus-Based Web site | Monday, February 6, 2017.
7. The Institutional Application and Agreement for Participation in the Work Colleges Program for the 2017-2018 award year | The Institutional Application and Agreement for Participation in the Work Colleges Program can be found on the “Setup” tab of the FISAP at the eCampus-Based Web site: https://cbfisap.ed.gov. The application and agreement must be submitted electronically through the eCampus-Based Web site. It must be signed by the institution's Chief Executive Officer (CEO), either electronically or on a printed copy with an original signature. If mailing the Institutional Application and Agreement for Participation in the Work Colleges Program signature page, it must be submitted by one of the following methods: | Monday, March 6, 2017.
| Hand deliver to: U.S. Department of Education, Federal Student Aid, Grants & Campus-Based Division, 830 First Street NE., Room 64F2, ATTN: Work Colleges Coordinator, Washington, DC 20002, or
| Mail to: The address listed above for hand delivery. However, please use ZIP Code 20202-5453
8. Request for a waiver of the FWS Community Service Expenditure Requirement for the 2017-2018 award year | The FWS Community Service waiver request is located on the “Setup” tab of the FISAP at the eCampus-Based Web site: https://cbfisap.ed.gov. The request and justification must be submitted electronically through the eCampus-Based Web site | Monday, April 24, 2017.
Notes: The deadline for electronic submissions is 11:59:00 p.m. (Washington, DC time) on the applicable deadline date. Transmissions must be completed and accepted by 11:59:00 p.m.to meet the deadline.
Paper documents that are sent through the U.S. Postal Service must be postmarked or you must have a mail receipt stamped by the applicable deadline date.
Paper documents that are delivered by a commercial courier must be received no later than 4:30:00 p.m. (Washington, DC time) on the applicable deadline date.
The Secretary may consider on a case-by-case basis the effect that a major disaster, as defined in section 102(2) of the Robert T. Stafford Disaster Relief and Emergency Assistance Act (42 U.S.C. 5122(2)), or another unusual circumstance has on an institution in meeting the deadlines.

Proof of Mailing or Hand Delivery of Paper Documents

If you submit paper documents when permitted by mail or by hand delivery (or from a commercial courier), we accept as proof one of the following:

(1) A legible mail receipt with the date of mailing stamped by the U.S. Postal Service.

(2) A legibly dated U.S. Postal Service postmark.

(3) A dated shipping label, invoice, or receipt from a commercial courier.

(4) Any other proof of mailing or delivery acceptable to the Secretary.

If you mail your paper documents through the U.S. Postal Service, we do not accept either of the following as proof of mailing:

(1) A private metered postmark.

(2) A mail receipt that is not dated by the U.S. Postal Service.

Note: The U.S. Postal Service does not uniformly provide a dated postmark. Before relying on this method, you should check with your local post office.

All institutions are encouraged to use certified or at least first-class mail.

The Department accepts hand deliveries from you or a commercial courier between 8:00:00 a.m. and 4:30:00 p.m., Washington, DC time, Monday through Friday except Federal holidays.

Sources for Detailed Information on These Requests

A more detailed discussion of each request for funds or waiver is provided in specific “Electronic Announcements,” which are posted on the Department's IFAP Web site (http://ifap.ed.gov) at least 30 days before the established deadline date for the specific request. Information on these items is also found in the Federal Student Aid Handbook, which is also posted on the Department's IFAP Web site.

Applicable Regulations: The following regulations apply to these programs:

(1) Student Assistance General Provisions, 34 CFR part 668.

(2) General Provisions for the Federal Perkins Loan Program, Federal Work-Study Program, and Federal Supplemental Educational Opportunity Grant Program, 34 CFR part 673.

(3) Federal Perkins Loan Program, 34 CFR part 674.

(4) Federal Work-Study Program, 34 CFR part 675.

(5) Federal Supplemental Educational Opportunity Grant Program, 34 CFR part 676.

(6) Institutional Eligibility under the Higher Education Act of 1965, as amended, 34 CFR part 600.

(7) New Restrictions on Lobbying, 34 CFR part 82.

(8) Governmentwide Requirements for Drug-Free Workplace (Financial Assistance), 34 CFR part 84.

(9) Governmentwide Debarment and Suspension (Nonprocurement), 2 CFR part 3485.

(10) Drug and Alcohol Abuse Prevention, 34 CFR part 86.

FOR FURTHER INFORMATION CONTACT: Pat Stephenson, Manager, Campus-Based Programs, U.S. Department of Education, Federal Student Aid, 830 First Street NE., Union Center Plaza, Room 64F2, Washington, DC 20202-5453. Telephone: (202) 377-3782 or via email: pat.stephenson@ed.gov.

If you use a telecommunications device for the deaf (TDD) or a text telephone (TTY), call the Federal Relay Service, toll free, at 1-800-877-8339.

Accessible Format: Individuals with disabilities can obtain this document in an accessible format (e.g., braille, large print, audiotape, or compact disc) on request to the program contact person listed in this section.

Electronic Access to This Document: The official version of this document is the document published in the Federal Register. Free access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Program Authority: 20 U.S.C. 1070b et seq. and 1087aa et seq.; 42 U.S.C. 2751 et seq.

Dated: January 14, 2016.
James W. Runcie,
Chief Operating Officer, Federal Student Aid.

[FR Doc. 2016-01159 Filed 1-20-16; 8:45 am]

BILLING CODE 4000-01-P